DEPARTMENT OF THE INTERIOR

National Park Service

[NPS-WASO-NAGPRA-NPS0031921; PPWOCRADN0-PCU00RP14.R50000]

Notice of Inventory Completion: University of Wisconsin-Madison, Department of Anthropology, Madison, WI

AGENCY: National Park Service, Interior.

ACTION: Notice.

SUMMARY: The University of Wisconsin-Madison, Department of Anthropology has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the University of Wisconsin-Madison, Department of Anthropology. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the University of Wisconsin-Madison, Department of Anthropology at the address in this notice by June 21, 2021.

ADDRESSES: Sissel Schroeder, University of Wisconsin-Madison, Department of Anthropology, 1180 Observatory Drive, 5240 Social Sciences Building, Madison, WI 53706, telephone (608) 262-0317, email sschroeder2@wisc.edu.

SUPPLEMENTARY INFORMATION: Notice is here given in accordance with the Native American Graves Protection and Repatriation Act (NAGPRA), 25 U.S.C. 3003, of the completion of an inventory of human remains under the control of the University of Wisconsin-Madison, Department of Anthropology, Madison, WI. The human remains were removed from Dane, Green Lake, Monroe, and Sauk Counties, WI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Wisconsin-Madison, Department of Anthropology professional staff in consultation with representatives of the Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Sokaogon Chippewa Community, Wisconsin; and the Stockbridge Munsee Community, Wisconsin. The Winnebago Tribe of Nebraska was invited to consult but did not participate. Hereafter, the above listed Indian Tribes are referred to as “The Consulted and Invited Tribes.”

History and Description of the Remains

In 1937, human remains representing, at minimum, one individual were removed from the Willow Drive Mound Group (47DA119) in Dane County, WI. The site is located on the south shore of Lake Mendota, and it is one of several mound groups on the campus of the University of Wisconsin-Madison. In 1937, Charles E. Brown, of the Wisconsin Historical Society, excavated the two linear mounds in this group. Based on a 1966 publication by David Baerreis, these human remains—a nearly complete cranium—are believed to have been removed from “Mound 3.” How they came to be curated at the University of Wisconsin-Madison, Department of Anthropology is unclear (University faculty were not directly involved with the excavations). The human remains belong to a young adult, possibly female. No known individual was identified. No associated funerary objects are present.

Sometime prior to 1967, human remains representing, at minimum, one individual were removed from the Big Bend site (47GL262) in Green Lake County, WI. The site is located on the east bank of the Fox River. In 1922, Towne Miller reported the site, and at some undetermined point, excavations were carried out there. At least one bird effigy mound and one panther effigy mound were originally identified at the Big Bend site. A number written on the human remains matches the number assigned to a clavicle reported in a 1967 Department of Anthropology inventory. How the human remains came to be curated at the University of Wisconsin-Madison, Department of Anthropology is unknown. (They might have been a loan from the Milwaukee Public Museum, but as that institution has no record of such a loan, the University of Wisconsin-Madison, Department of Anthropology has asserted control of them.) The partial skeletal remains belong to an elderly adult male. No known individual was identified. No associated funerary objects are present.

Sometime prior to 1968, human remains representing, at minimum, one individual were removed from the Mound Prairie East site (47MO6) in Monroe County, WI. The site is in the Town of Adrian, near Smith Creek, which is part of the upper La Crosse River drainage in western Wisconsin. The Mound Prairie East site, of Woodland cultural affiliation, was visited by H.E. Cole and A.S. Flint ca. 1912, as part of a statewide archeological survey conducted under the aegis of the Wisconsin Archeological Society. Cole and Flint observed human bone fragments on the disturbed tops of several mounds, and they excavated human remains in the mound nearest to the Roberts house. The human remains have been housed at the University of Wisconsin-Madison, Department of Anthropology since at least 1968, as documented in an inventory from that same year. (They might have been a loan from the Wisconsin Historical Society, but as that institution has no record of such a loan, the University of Wisconsin-Madison, Department of Anthropology has asserted control of them.) The fragmentary remains belong to an adult male. No known individual was identified. No associated funerary objects are present.

At an unknown date, human remains representing, at minimum, one individual were removed from Sauk County, WI. They are believed to have been removed from the Langdon Mounds site (47SK57), an Effigy Mound group consisting of three bear effigy mounds and one linear mound (as there is no known record of excavations at this mound group by the University of Wisconsin-Madison, the SK57 designation might be a field number for a different site in Sauk County where UW archeologists did carry out excavations). The site, situated on the south side of the Baraboo River and on a toe slope along the northern side of the South Range of the Baraboo Hills, was reported in 1906, by A.B. Stout. At that time, the mounds had been disturbed by road construction and timber cutting. Most of the referenced surveys at this site describe attempts to relocate the mounds; none mention human remains or burials. The fragmentary remains belong to a 16-20-year-old female. No known individual was identified. No funerary objects are present.

Determinations Made by the University of Wisconsin-Madison, Department of Anthropology

Officials of the Wisconsin-Madison, Department of Anthropology have determined that:

• Pursuant to 25 U.S.C. 3001(9), the human remains described in this notice are Native American based on an examination by a physical anthropologist and the recovery of these remains from a known archeological site that has a Late Woodland affiliation.

• Pursuant to 25 U.S.C. 3001(9), the human remains described in this notice represent the physical remains of four individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Ho-Chunk Nation of Wisconsin and the Winnebago Tribe of Nebraska.

• Pursuant to 43 CFR 10.11(c)(1), the disposition of the human remains may be to the Ho-Chunk Nation of Wisconsin and the Winnebago Tribe of Nebraska.

Additional Requestors and Disposition

Representatives of any Indian Tribe or Native Hawaiian organization not identified in this notice that wish to request transfer of control of these human remains should submit a written request with information in support of the request to Sissel Schroeder, University of Wisconsin-Madison, Department of Anthropology, 1180 Observatory Drive, 5240 Social Sciences Building, Madison, WI 53706, telephone (608) 262-0317, email sschroeder2@wisc.edu, by June 21, 2021. After that date, if no additional requestors have come forward, transfer of control of the human remains to the Ho-Chunk Nation of Wisconsin and the Winnebago Tribe of Nebraska may proceed.

The University of Wisconsin-Madison, Department of Anthropology is responsible for notifying The Consulted and Invited Tribes that this notice has been published.

Dated: May 6, 2021.
Melanie O'Brien,
Manager, National NAGPRA Program.

[FR Doc. 2021-10658 Filed 5-19-21; 8:45 am]

BILLING CODE 4312-52-P